DEPARTMENT OF THE INTERIOR

National Park Service

[NPS-WASO-NTS; PPWOPCADT0/PPMPSPD1T.Y00000]

Official Trail Marker for National Water Trails

AGENCY: National Park Service, Interior.

ACTION: Notice of designation.

SUMMARY: This notice issues the official trail marker insignia for National Water Trails, a subset of National Recreation Trails in the National Trails System. The original graphic image was developed in 2012 with the establishment of the National Water Trails System under Secretary Order 3319. The National Park Service and related agencies have officially adopted and use this insignia to help mark all designated National Water Trails.

FOR FURTHER INFORMATION CONTACT: John Cannella, National Program Manager; National Trails System; National Park Service; 1100 Old Santa Fe Trail, Santa Fe, NM 87505; via email at john_cannella@nps.gov; or via phone at (505) 660-5480.

SUPPLEMENTARY INFORMATION: The primary author of this document is John Cannella, National Program Manager, National Trails System, Conservation and Outdoor Recreation Division, Washington Support Office, National Park Service.

The insignia depicted below is prescribed as the official trail marker logo for National Water Trails. Authorization for use of this trail marker is controlled by the National Park Service's National Trails System office.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

Authority: Secretary Order 3319: Establishment of a National Water Trails System; National Trails System Act, 16 U.S.C. 1246(c); and Protection of Official Badges, Insignia, etc., 18 U.S.C. 701.

John Cannella,
National Program Manager, National Trails System.

[FR Doc. 2023-09267 Filed 5-1-23; 8:45 am]

BILLING CODE 4312-52-P